ELECTION ASSISTANCE COMMISSION

Sunshine Act Notice

AGENCY: United States Election Assistance Commission (EAC).

ACTION: Notice of Public Meeting Roundtable Discussion.

Date and Time: Thursday, April 24, 2008, 9 a.m.-2 p.m. (EST).

Place: United States Election Assistance Commission, 1225 New York Ave., NW., Suite 150, Washington, DC 20005.

Agenda: The Commission will host a voting advocates roundtable discussion of the Technical Guidelines Committee's (TGDC) recommended Voluntary Voting System Guidelines. The discussion will be focused upon the following topics: (1) The development of a threat assessment; (2) The evaluation of innovative systems; (3) Open Ended Vulnerability Testing (OEVT) and how it fits into the proposed standards; (4) The testing of voting system software; (5) How best to strike the balance between usability and accessibility and the need for secure systems; (6) Possible changes in scope or depth that would help improve the proposed standard.

This meeting will be open to the public.

Person To Contact For Information: Matthew Masterson, Telephone: (202) 566-3100.

Caroline C. Hunter,
Vice-Chair, U.S. Election Assistance Commission.

[FR Doc. E8-8287 Filed 4-16-08; 8:45 am]

BILLING CODE 6820-KF-M